DEPARTMENT OF HEALTH AND HUMAN SERVICES

Centers for Disease Control and Prevention

Statement of Organization, Functions, and Delegations of Authority

Part C (CDC) of the Statement of Organization, Functions, and Delegations of Authority of HHS (45 FR 67772-76, dated October 14, 1980, and corrected at 45 FR 69296, October 20, 1980, as amended most recently at 86 35511-35520, dated July 6, 2021) is amended to reflect the reorganization of the National Center for Injury Prevention and Control (NCIPC), Deputy Director for Non-Infectious Diseases, CDC. This reorganization approved by the Director, CDC, on July 1, 2022, will streamline the current organizational structure, improve the overall employee/supervisor ratio, eliminate workflow inefficiencies, and improve customer service.

I. Under Part C, Section C-B, Organization and Functions, make the following changes:

• Update the functional statements for the Division of Violence Prevention (CUHC)

• Update the functional statements for the Office of the Director (CUHC1)

• Establish the Office of Policy, Partnerships, and Communication (CUHC12)

• Establish the Office of Senior Director for Scientific Programs (CUHC13)

• Establish the Office of the Associate Director for Science (CUHC13b)

• Establish the Office of the Deputy Director for Management and Program Operations (CUHC14)

• Establish the Office of Management and Operations (CUHC14b)

• Update the functional statements for the Surveillance Branch (CUHCB)

• Update the functional statements for the Research and Evaluation Branch (CUHCC)

• Retitle the Prevention Practice and Translation Branch to the Violence Prevention Practice and Translation Branch (CUHCD)

• Update the functional statements for the Field Epidemiology and Prevention Branch (CUHCE)

• Establish the Community Violence Prevention Practice and Translation Branch (CUHCG)

• Update the functional statements for the Division of Injury Prevention (CUHF)

• Update the functional statements for the Office of the Director (CUHF1)

• Establish the Office of Science (CUHF12)

• Establish the Office of Policy and Partnerships (CUHF13)

• Establish the Office of Management and Operations (CUHF14)

• Establish the Office of Communications (CUHF15)

• Update the functional statements for the Division of Overdose Prevention (CUHG)

• Update the functional statements for the Office of the Director (CUHG1)

• Establish the Office of Policy, Planning, and Partnerships (CUHG12)

• Establish the Office of the Associate Director for Program Implementation (CUHG13)

• Establish the Office of the Deputy Director for Scientific Programs (CUHG14)

• Establish the Office of the Associate Director for Science (CUHG14b)

• Establish the Office of the Associate Director for Management Operations (CUHG15)

• Establish the Office of Management and Operations (CUHG15b)

• Update the functional statements for the Epidemiology and Surveillance Branch (CUHGB)

• Update the functional statements for the Health Systems and Research Branch (CUHGC)

• Update the functional statements for the Prevention Programs and Evaluation Branch (CUHGD)

• Update the functional statements for the Drug-Free Communities Branch (CUHGE)

• Update the functional statements for the Communications Branch (CUHGG)

• Establish the State Program Implementation Branch (CUHGH)

II. Under Part C, Section C-B, Organization and Functions, insert the following:

• Division of Violence Prevention (CUHC). (1) Provides leadership in developing and executing a national program for the prevention and control of violence and its consequences; (2) plans, establishes, and evaluates surveillance systems to monitor national trends in morbidity, mortality, disabilities, health equity, and cost of violence-related injuries and deaths, and facilitates the development of surveillance systems by state, tribal, local, and territorial agencies; (3) plans, directs, conducts, and supports research focused on the causes of and health inequities in violence and the development and evaluation of strategies to prevent and control violence-related injuries and deaths; (4) produces new, evidence-based scientific knowledge that informs policies, practice, and programs in the violence field; (5) plans, conducts, supports, and evaluates demonstration projects and programs to prevent and control violence; (6) develops and disseminates policies, recommendations, and guidelines for the prevention of violence and its consequences; (7) proposes goals and objectives for linking health system and violence control activities with public health activities, including surveillance, prevention, healthcare, and rehabilitation of injury; (8) proposes goals and objectives for national violence prevention and control programs, monitors progress toward these goals and objectives, and recommends and develops guidelines for priority prevention and control activities; (9) provides expertise in public health practice, health equity, surveillance, evaluation, and research for violence prevention; (10) provides technical assistance, consultation, training, and epidemiological, statistical, educational, and other technical services to assist state and local health departments and community based organizations in the planning, development, implementation, evaluation, and overall improvement of violence prevention programs; (11) facilitates the development and supports the dissemination of research findings and transfer of violence prevention and control technologies to federal, state, and local agencies, private organizations, and other national and international groups; (12) sustains a public health infrastructure for violence prevention at federal, state, tribal, local, and territorial levels; (13) facilitates similar strategic planning activities by other federal, state, and local agencies, academic institutions, and private and other public organizations; and (14) in carrying out the above functions collaborates with other divisions of NCIPC, CDC Centers, Institute, and Offices (CIOs), HHS agencies, other federal, state, and local departments and agencies, academic institutions, private sector, voluntary, and international organizations, as appropriate.

• Office of the Director (CUHC1). (1) Provides leadership and direction for division priorities and activities to monitor, prevent and reduce violent behavior and violence-related injuries and deaths; (2) leads the division to monitor trends in violent behavior and violence-related injuries and deaths and scales up prevention activities to reduce violence, risk factors, and consequences; (3) promotes strategies to achieve the vision of a violence-free society in which all people and communities are safe, healthy, and thriving; (4) plans, directs, coordinates, and evaluates the activities of the division; (5) establishes and interprets policies, and determines program priorities; (6) provides national leadership and guidance in violence prevention and control program planning, development, and evaluation; (7) advances health equity in violence prevention through both research and programmatic activities; and (8) assures multi-disciplinary collaboration in violence prevention and control activities.

• Office of Policy, Partnerships, and Communication (CUHC12). (1) Provides leadership and guidance to division management and staff on policies, planning and communications for violence prevention activities; (2) prepares, tracks, and coordinates controlled and general correspondence; (3) prepares responses and coordinates provision of materials requested by CDC leadership, Congress, HHS, other federal agencies, and non-governmental agencies; (4) coordinates with NCIPC Office of Policy and Partnerships to execute and support NCIPC- and CDC-wide policy and partner-related initiatives related to violence prevention; (5) coordinates with the NCIPC Office of Communications to execute and support NCIPC- and CDC-wide communication initiatives and policies; (6) develops tailored messages and materials to promote dissemination of scientific findings, evidence-based prevention strategies, priority recommendations, and guidelines through traditional media outlets, social media, and other channels;

(7) collaborates with subject matter experts, program and policy staff, develops and implements communication strategies, campaigns, and plans to meet the needs of division programs and NCIPC's mission, to provide leadership in preventing and controlling injuries by reducing the incidence, severity, and adverse outcomes of injury; (8) provides consultation on international violence prevention and control activities of the division; and (9) establishes linkages and collaborates, as appropriate, with other divisions and offices in NCIPC, with other CIOs throughout CDC, nongovernmental organizations; and with national level prevention partners that impact violence prevention programs.

• Office of the Senior Director for Scientific Programs (CUHC13). (1) Directs and evaluates the cross-cutting scientific activities of the division; (2) provides leadership and guidance in scientific program planning, development, implementation, and evaluation for violence prevention activities; (3) coordinates division public health science efforts to protect the public's health; (4) facilitates the translation of scientific knowledge into preventive actions; (5) ensures use of best practices to collect, analyze, and interpret data and disseminates scientific information to enable internal and external partners to make actionable decisions; and (6) integrates science, data analytics, and visualization into science products.

• Office of the Associate Director for Science (CUHC13b). (1) Provides scientific leadership, planning, and guidance to division management and staff on research methodology and priorities for violence prevention research activities;

(2) promotes DVP-funded science programs and activities, and advocates for science within the organization; (3) provides leadership on science policy development and implementation; (4) oversees scientific clearance and related quality assurance; (5) provides representation on scientific issues, internally within CDC and externally with partners; (6) contributes to the development of new scientific advances by preparing manuscripts for publication in scientific and technical journals and publications, including articles and guidelines published in the Morbidity and Mortality Weekly Report (MMWR) and other publications for the public; (7) supports scientific training opportunities and mentorship to scientists and fellows; and (8) in coordination with the NCIPC OS, reviews and approves surveillance, programmatic, and research project concepts, and ensures their compliance with federal regulations.

• Office of the Deputy Director for Management and Program Operations (CUHC14). (1) Plans, directs, and evaluates the management and program operations activities of the division; (2) provides cross-cutting leadership and guidance in program planning, development, implementation, and evaluation for violence prevention activities; (3) oversees overarching personnel, operational, administrative, fiscal, and technical support for division programs and units; (4) provides leadership for and assessment of all administrative management activities of the division; (5) provides overall programmatic direction for planning and management oversight of allocated resources, human resource management and general administrative support for division programs and units; and

(6) reviews the effectiveness and efficiency of all administration and operations of division programs and units.

• Office of Management and Operations (CUHC14b). (1) Provides leadership, planning, and guidance to division management and staff on management and operations for violence prevention activities; (2) manages the budget through planning, execution, and closeout to facilitate daily operations; (3) provides over-arching personnel, operational, administrative, fiscal, and technical support for division programs and units; (4) develops and implements processes to provide efficiency in facilitating work to prevent violent behavior and violence-related injuries and deaths; (5) carries out routine office functions and meets administrative requirements necessary for daily functions; and (6) coordinates and oversees the implementation of available assistance mechanisms to prevent violent behavior and violence-related injuries and deaths.

• Surveillance Branch (CUHCB). (1) Advises the Office of the Director, in DVP and NCIPC, on all aspects of violence surveillance including data and systems management by providing data to inform violence program planning;

(2) conducts national, state, and local surveillance and surveys to identify new and monitor recognized forms of violence and its consequences, analyzes and interprets data, examines patterns in health equity (e.g., by race/ethnicity, gender, gender identity, sexual orientation, and disability), and monitors trends in violence and its trajectory across the lifespan; (3) consults and collaborates with other branches to promote using surveillance data to inform preventive actions; (4) coordinates, manages, maintains, and provides tabulations and maps from surveillance systems and other data sources that contain national, state, and local data on violence-related morbidity, mortality, and economic costs; (5) develops and implements uniform definitions for public health surveillance of various forms of violence and related outcomes; (6) provides leadership for the development of surveillance systems to inform policies, practice, and programs in the violence prevention field; (7) provides expert consultation to federal, state, and local health agencies on surveillance system design, implementation, and evaluation, and use of surveillance data to describe the burden of violence; (8) disseminates violence surveillance information to the scientific community and the general public through regular publication in peer-reviewed journals and CDC publications, presentations at professional conferences and other partner group meetings, and through a public-facing dashboard; (9) develops, designs, implements, and evaluates innovative surveillance strategies to address gaps and apply surveillance data to epidemiological studies, program evaluation, and programmatic activities; and (10) in carrying out the above functions, provides leadership and collaborates with other divisions and offices in NCIPC, other CIOs throughout CDC, and other federal, state, and local departments and agencies, academic institutions, private sector, voluntary, and international organizations, as appropriate in all aspects of surveillance of violence and its consequences.

• Research and Evaluation Branch (CUHCC). (1) Plans, directs, conducts, and supports formative, etiologic, and epidemiologic research focused on causal factors, risk and protective factors, and psychosocial, cultural, and contextual determinants for violence and its consequences; (2) plans, directs, conducts, and supports applied research focused on the rigorous evaluation of strategies, policies, and interventions to prevent violent behavior and violence-related injuries and deaths; (3) evaluates the effectiveness and impact of violence prevention strategies, policies, and interventions as practiced or implemented by public health agencies and organizations at the national/regional and state/local levels; (4) conducts implementation research to examine the context, processes, and factors that influence effective and efficient dissemination/diffusion, uptake/adoption, implementation, translation, and sustainability of violence prevention strategies, policies, and interventions; (5) conducts research that promotes health equity by reducing the inequitable burden of risk for violence exposure experienced by racial and ethnic minority and other disproportionately affected (e.g., gender, sexual orientation, and disability) groups to better understand risk and protective factors contributing to these inequities and evaluate violence prevention strategies, policies, and interventions to remediate them; (6) develops and evaluates methodologies for conducting violence prevention research evaluation; (7) contributes to the research literature and evidence base by publishing regularly in peer-reviewed journals, CDC sponsored publications and government reports that include, but are not limited to, etiological, evaluation, and implementation research and research syntheses; (8) serves as a resource, collaborates, and provides technical assistance in applying research and evaluation results and techniques to the ongoing assessment and improvement of violence prevention and control approaches; (9) disseminates research findings to help guide the development of prevention strategies, policies, and interventions or to improve the effectiveness of existing strategies, policies, and interventions to prevent and reduce violence, its risk factors, and its consequences; and (10) in carrying out the above functions, collaborates with other components within NCIPC, CDC, the Public Health Service, HHS, other federal agencies, and national and international professional, academic, voluntary, philanthropic organizations, and other entities.

• Violence Prevention Practice and Translation Branch (CUHCD). (1) Provides leadership and support in public health practice and the application of science for maximum benefit of violence prevention programmatic efforts; (2) plans, directs, conducts, and supports program evaluation of strategies, policies, and programs to prevent violent behavior and violence-related injuries and deaths; (3) monitors and evaluates violence prevention programs and policies, and disseminates findings to promote program accountability and program improvement; (4) promotes an enhanced and sustained infrastructure for a public health approach to violence prevention at state, tribal, local, and territorial levels; (5) provides leadership and technical assistance in promoting health equity as an integral part of programmatic activities to prevent violence and in adapting evidence-based strategies to create the optimal conditions for health and safety for all communities and people regardless of race/ethnicity, sexual orientation, gender identity, poverty, geography, capacity, or religion. (6) generates and moves practice based knowledge into program practice and research fields; (7) develops and evaluates methodologies for conducting program evaluation; (8) identifies findings, lessons learned, and evidence from the field and collaborates with internal and external partners to inform research, surveillance, and program evaluation that builds the evidence base for effective violence prevention; (9) provides support, training, and technical assistance that applies sound prevention principles and systematic processes to enhance public health practice, including program development, implementation, improvement, and competence of personnel engaged in violence prevention and control research practices; (10) applies the best available evidence from translational science and continuous quality improvement to help communities select, adopt, adapt, implement, disseminate, sustain, and scale up programs, strategies, and activities that will lead to successful violence prevention outcomes; (11) works to reduce violence by supporting state and local violence prevention and control programs, and promoting the dissemination and application of science into program practice in the violence prevention field; (12) synthesizes relevant research, evaluation findings, evidence, and trends to develop practical guidance and resources that enhance violence prevention programs, strategies, and activities; (13) communicates internally and externally the important work and progress of the staff, recipients, and partners; (14) plans, conducts, supports, and evaluates demonstration projects and programs to prevent and control violence; (15) proposes goals and objectives for national violence prevention and control programs, monitors progress toward these goals and objectives, and recommends and develops guidelines for priority prevention and control activities; (16) provides national leadership and guidance in violence prevention and control program planning, development, and evaluation; (17) develops and manages liaison and collaborative relationships with professional, community, international, federal, and other agencies involved in violence prevention activities; and (18) in carrying out the above functions, provides leadership and collaborates with other divisions and offices in NCIPC, other CIOs throughout CDC, and other federal, state, local, non-governmental, voluntary, professional, and international organizations in all aspects of public health practice as it relates to violence prevention.

• Field Epidemiology and Prevention Branch (CUHCE). (1) Conducts investigations to address important public health problems related to violence; (2) conducts domestic and international surveys to assess incidence and prevalence of violence, risk factors, and health consequences, and monitors trends in violence and its trajectory across the lifespan; (3) collects data to inform the timely development of violence prevention initiatives; (4) builds capacity of public health to guide application of data to prevent violence; (5) conducts field epidemiology through field investigations and field support to improve collection of data on violence and provide timely recommendations on evidence-based violence prevention interventions; (6) advances health equity and prevents violence globally and in the U.S. through data collection and application of evidence-based, data-informed violence prevention practices; (7) synthesizes and translates relevant research, evaluation findings, evidence, and trends, and ensures that communication and marketing technologies are applied to the development of practical tools, products, trainings, and guidance that enhance international violence prevention programs, strategies, and activities; (8) uses research findings to develop new or improve existing strategies, policies, and interventions to prevent and reduce violent behavior, its risk factors, and consequences;

(9) disseminates scientific findings, evidence-based prevention strategies, and violence prevention guidelines through publication of research findings in professional journals and government reports, through participation in national and international meetings, seminars, and conferences, and through the development of communication initiatives; (10) establishes and sustains partnerships with other CDC CIOs and federal and non-government partners to improve the health and safety of youth by linking systematic measurement of violence with multi-sectoral, effective, scalable, and sustainable actions to reduce violence and its consequences; (11) works to reduce community violence by supporting state and local violence prevention and control programs and promote the dissemination and application of science into program practice in the violence prevention field;

(12) synthesizes relevant research, evaluation findings, evidence, and trends to develop practical guidance and resources that enhance community violence prevention programs, strategies, and activities; (13) leverages and applies science-based information to help organizations and government agencies to use data to inform public health action to develop, evaluate, and improve programs and strategies to prevent violence-related injuries, health problems, and deaths; (14) provides expert consultation and technical assistance, consultation, training, and epidemiological, statistical, and other technical services to assist international and local health entities in the planning, implementation, application, evaluation, and overall improvement of violence monitoring and violence prevention programming; and (15) in carrying out the above functions, collaborates with other divisions and offices of NCIPC, CIOs, HHS agencies, other federal, state, and local departments and agencies, academic institutions, private sector, voluntary, and international organizations, as appropriate on all aspects of violence surveillance.

• Community Violence Prevention Practice and Translation Branch (CUHCG). (1) Provides leadership and support in public health practice and the application of science for maximal benefit of community violence (CV) prevention programmatic efforts; (2) plans, directs, conducts, and supports program evaluation of strategies, policies, and interventions to prevent community violence and related injuries and deaths; (3) monitors and evaluates community violence prevention programs, and disseminates findings to promote program accountability and program improvement; (4) promotes an enhanced and sustained CV infrastructure for a comprehensive approach based on scaling up and/or implementing proven programs and policies to stem current violence and prevent future violence from occurring; (5) provides leadership and technical assistance in promoting health equity as an integral part of programmatic activities to prevent violence and in adapting evidence-based strategies to create the optimal conditions for health and safety for all communities and people regardless of race/ethnicity, sexual orientation, gender identity, poverty, geography, capacity, or religion; (6) generates and moves practice-based knowledge into program practice and research fields; (7) develops and evaluates methodologies for conducting program evaluation; (8) identifies findings, lessons learned, and evidence from the field and collaborates with internal and external partners to inform research, surveillance, and program evaluation that builds the evidence base for effective violence prevention; (9) provides support, training, and technical assistance that applies sound prevention principles and systematic processes to enhance public health practice, including program development, implementation, improvement, and competence of personnel engaged in community violence prevention practices; (10) applies the best available evidence from translational science and continuous quality improvement to help communities select, adopt, adapt, implement, disseminate, sustain, and scale up programs, strategies, and activities that will lead to successful community violence prevention outcomes; (11) communicates internally and externally the important work and progress of the staff, recipients, and partners; (12) plans, conducts, supports, and evaluates demonstration projects and programs to prevent and control community violence; (13) proposes goals and objectives for national community violence prevention programs, monitors progress toward these goals and objectives, and recommends and develops guidelines for priority prevention activities; (14) provides national leadership and guidance in community violence prevention program planning, development, and evaluation; (15) develops and manages liaison and collaborative relationships with other federal, state, and local departments and agencies, academic institutions, private sector, and voluntary organizations involved in community violence prevention activities; and (16) in carrying out the above functions, provides leadership and collaborates with other divisions and offices in NCIPC, other CIOs throughout CDC, and federal, state, local, non-governmental, voluntary, professional, and international organizations in all aspects of public health practice as it relates to community violence prevention.

• Division of Injury Prevention (CUHF). (1) Integrates injury prevention strategies with healthcare delivery; (2) develops and disseminates policies, recommendations, and guidelines for the prevention of injury and its consequences; (3) develops and implements evidence-based public health practices, policies, or programs that prevent or reduce unintentional and self-directed injuries; (4) identifies findings, lessons learned, and potential best practices from the field and collaborates with internal and external partners to conduct scientific investigations to examine the context, processes, and factors that influence the risk of injuries and successful implementation of prevention strategies; (5) plans, establishes, and maintains surveillance systems to monitor national trends in morbidity, mortality, disabilities, and cost of injuries and facilitates the development of surveillance systems by state and local agencies; (6) produces and disseminates new scientific knowledge to inform policies, practice, and programs in the injury field; (7) supports the development and enhancement of state, tribal, local, and territorial injury prevention programs that integrate evidence-based population health strategies, surveillance, and evaluation in collaboration with other public health and non-public health sectors to promote injury control and prevention; (8) provides expertise in statistics, computer programming, data science, economics, public health practice, surveillance, evaluation, and research to engage NCIPC and the injury prevention community; (9) leads translation and dissemination of injury prevention and control research findings and injury data to federal, state, tribal, local, and territorial public health agencies, and public and private sector organizations with responsibilities and interests related to injury prevention; (10) supports the development and enhancement of public health infrastructure for injury prevention at federal, state, tribal, local, and territorial levels through funding, workforce training, and outreach; and (11) leads innovative data science activities to address injury data and information needs and inform research and prevention activities.

• Office of the Director (CUHF1). (1) Provides leadership and direction for division priorities and activities to monitor, prevent, and reduce unintentional and self-directed injuries; (2) leads the division to monitor trends in the injury field and scales up prevention activities to reduce injury and its consequences; (3) promotes intervention strategies for injuries to advance NCIPC and CDC's mission; (4) plans, directs, coordinates, and evaluates the activities of the division; (5) leads division strategic planning and priority setting and oversees overall program performance, scientific quality of activities, and operational policies to advance NCIPC and CDC's mission; (6) provides leadership, representation, and consultation on cross-agency, intra-governmental, non-governmental, and international workgroups and forums to advance division goals and NCIPC and CDC's mission; and (7) oversees the development of research to inform policies, practice, and programs in the injury field.

• Office of Science (CUHF12). (1) Provides leadership, planning, and guidance to division management and staff on scientific policy, priorities, and research methodology for injury prevention and control practices; (2) ensures division programs and units produce the highest quality, most useful and relevant science possible; (3) leads development and updates to research priorities for injury prevention and control in collaboration with division programs and provides tools and assessment to ensure research informs policy, practice, and programs in the injury field; (4) prepares and monitors clearance of manuscripts for publication in scientific and technical journals and publications, including articles and guidelines published in the MMWR and other publications for the public; (5) supports scientific training opportunities and mentorship to scientists and fellows; and (6) provides leadership for the development of research to inform policies, practice, and programs in the injury field.

• Office of Policy and Partnerships (CUHCF13). (1) Provides leadership and guidance to division management and staff on policies and partnership for injury prevention and control; (2) implements operational policies to advance NCIPC and CDC's mission; (3) develops and manages collaborative relationships with professional, community, international, governmental, and non-governmental agencies, and tribal nations, to advance injury prevention and control; (4) coordinates with the NCIPC Office of Policy and Partnerships to identify and proactively manage emerging policy issues; (5) coordinates with the NCIPC Office of Policy and Partnerships and division staff to provide program, performance, and budgetary information related to the division's activities for internal and external stakeholders and policy makers; (6) coordinates with division staff to prepare briefing materials; (7) collaborates with other NCIPC divisions and Offices and other CIOs throughout CDC on critical injury prevention programs; and (8) prepares, tracks, and coordinates responses to all inquiries from NCIPC leadership, Congress, HHS, other federal agencies, and non-governmental agencies.

• Office of Management and Operations (CUHCF14). (1) Provides leadership, planning, and guidance to division management and staff on management and operations for injury prevention and control practices; (2) manages the budget through planning, execution, and closeout to facilitate daily operations; (3) provides over-arching personnel, operational, administrative, fiscal, and technical support for division programs and units; (4) develops and implements processes to efficiently facilitate work on prevention and control injuries; (5) carries out routine office functions and meets administrative requirements necessary for daily functions; and (6) coordinates and oversees the implementation of available assistance mechanisms to prevent and control injuries.

• Office of Communications (CUHCF15). (1) Provides leadership and guidance to division management and staff on communications initiatives and policies, including health literacy, plain language, and CDC branding for injury prevention and control topics and practices; (2) collaborates with subject matter experts and program and policy staff to develop strategic communication plans that meet division, NCIPC, and CDC priorities; (3) develops, implements, and evaluates communication strategies, campaigns, and materials to disseminate data and scientific findings, evidence-based prevention strategies, priority recommendations, programmatic successes, and guidelines through traditional and emerging communication channels; (4) facilitates coordination of cross-cutting topics related to effective communications strategies and ensures incorporation of lessons learned to promote communications best practices; (5) leads digital communication and marketing strategies and manages digital channels in the injury field; and (6) provides ongoing communication leadership, support, and strategic direction to division programs and units.

• Division of Overdose Prevention (CUHG). (1) Plans, establishes, evaluates, uses, and collaborates on surveillance systems to monitor local, state, and national trends in morbidity, mortality, risk and protective factors related to drug use and overdose, and implements programmatic strategies to prevent drug use and overdose; (2) plans, directs, conducts, and supports research and advanced analytics focused on the causes, risks, and protective factors associated with drug use and overdose and identifies strategies at the federal, state, and local level, as well as in health systems, to prevent drug use and overdose; (3) evaluates the effectiveness and impact of drug use and overdose-related interventions, strategies, policies, and programs as practiced or implemented by public health agencies and organizations at the federal, state, territorial, and local levels, including health systems and law enforcement/public safety; (4) identifies, develops, translates, implements, and evaluates programs and evidence-based clinical guidelines and informs policies to prevent drug use and overdose; (5) facilitates the translation, dissemination, and sustainability of practice- and research-tested findings into widespread local, state, and national public health and health system practice to prevent drug use and overdose; (6) develops, translates, implements, and evaluates evidence-based clinical prescribing guidelines to improve patient outcomes and prevent drug overdose; (7) provides technical assistance, consultation, training, and capacity building to federal, state, and local agencies, non-profit and international organizations, professional associations, and medical providers to prevent drug use and overdoses; (8) establishes and maintains relationships across HHS, CDC, and NCIPC and its partners, including state, territorial, and local public health agencies, other federal agencies, the healthcare sector, professional organizations, and other constituents, including academic institutions and international organizations, that address drug use and overdose prevention; and (9) develops or is actively involved in the development of drug use and overdose prevention educational materials, training courses, tools, and other communication materials, as appropriate, based on identified needs of partners.

• Office of the Director (CUHG1). (1) Provides leadership and direction on division priorities and activities to monitor, prevent, and reduce harms associated with drug use, misuse, and overdose; (2) leads the division in monitoring trends in the drug overdose crisis and other emerging drug threats and identifies and scales prevention activities to address the evolving drug overdose crisis; (3) promotes strategies to achieve the vision to end drug overdose and related harms; (4) plans, directs, and evaluates division activities; (5) provides cross-cutting leadership and guidance in policy formation and program planning, development, implementation and evaluation for drug use and overdose prevention; and (6) ensures multi-disciplinary collaboration in drug use and overdose prevention activities.

• Office of Policy, Planning, and Partnerships (CUHG12). (1) Provides leadership and guidance to division management and staff on policies, planning, and partnership related to activities to monitor, prevent, and reduce harms associated with drug use, misuse, and overdose; (2) prepares, tracks, and coordinates controlled and general correspondence; (3) prepares responses and coordinates provision of materials requested by NCIPC leadership, CDC leadership, HHS, Congress, and other federal partners; (4) coordinates with NCIPC's Office of Policy and Partnerships to execute and support NCIPC- and CDC-wide policy- and partner-related initiatives focused on overdose prevention; (5) collaborates, as appropriate, with non-governmental organizations, academic institutions, philanthropic foundations, and other domestic and international partners to achieve the division's mission; (6) tracks and monitors annual appropriations process, working with NCIPC staff to draft annual budget justifications and performance narratives; (7) coordinates with division and NCIPC leadership to develop enterprise risk mitigation efforts related to division activities and monitor performance measures related to division, NCIPC, and CDC performance; and (8) coordinates and implements national prevention strategies, programs, and policies in collaboration with state and local public health departments, community-based organizations, and other branches, CIOs, and federal agencies.

• Office of the Associate Director for Program Implementation (CUHG13). (1) Provides leadership, guidance, and technical assistance to division management and staff to strengthen implementation of overdose surveillance and prevention programs and initiatives; (2) identifies, implements, and coordinates technical assistance strategies and supports to enhance the implementation and evaluation of the division's overdose surveillance and prevention strategies and programs;

(3) fosters and promotes opportunities for cross-program learning and leverages program synergies to improve coordination, consistency, and efficiencies across the division's programmatic efforts aimed at reducing overdoses; (4) collaborates with other offices, CIOs, and national partners to identify and execute opportunities that increase the scope, reach, and impact of the division's overdose prevention strategies; (5) establishes and maintains relationships with national partners and other key stakeholders to strengthen technical assistance and enhance subject matter expertise; (6) provides cross-cutting leadership, expertise, and guidance to inform and execute on program planning, development, and implementation of efforts, strategies, and activities to combat the changing drug overdose epidemic; (7) leverages programmatic data and research findings to inform the development and/or implementation of strategies, policies, and interventions; and (8) develops tools and resources to support the implementation of the division's overdose surveillance and prevention strategies and activities.

• Office of the Deputy Director for Scientific Programs (CUHG14). (1) Plans, directs, and evaluates the cross-cutting scientific activities of the division; (2) provides leadership and guidance on scientific program planning, development, implementation, and evaluation for drug use and overdose prevention; (3) coordinates division public health science efforts to protect the public's health; (4) develops capacity within states, territories, and localities to integrate new and existing epidemiological and scientific principles into operational and programmatic expertise within division programs and units; (5) ensures use of best practices to collect, analyze, and interpret data and disseminate scientific information to enable internal and external partners to make actionable decisions; and (6) translates and integrates science, data analytics, and visualization into science products.

• Office of the Associate Director for Science (CUHG14b). (1) Provides scientific leadership, planning, and guidance to division management and staff on scientific policy, research methodology, and strategic priorities for overdose prevention activities, ensuring the integrity of the division's scientific work; (2) provides leadership to develop research on etiologic, epidemiologic, and behavioral aspects of drug use and overdose prevention; evaluate prevention activities; and coordinate division activities with others involved in related work across NCIPC, CDC, HHS, and other partners; (3) implements and guides policies and procedures related to data management, sharing and public access, human subjects research protections, Paperwork Reduction Act regulations, Federal Advisory Committee Act regulations, and scientific authorship and misconduct, ensuring work is performed in accordance with these policies and guidance; (4) oversees adjudication of issues related to science disputes, scientific ethics, and misconduct; (5) ensures the division's work is grounded in science and recommendations are evidence-based; (6) conducts portfolio reviews of scientific and programmatic initiatives in the division to identify critical gaps and opportunities for the future direction of research and programmatic work; (7) coordinates agency-wide and cross-agency cannabis-related surveillance, research activities, and communications activities, and provides technical assistance for cannabis-related programmatic activities; (8) reviews and approves surveillance, programmatic, and research project concepts in coordination with NCIPC OS to ensure alignment with strategic priorities and compliance with federal regulations; (9) oversees and conducts clearance (scientific information product reviews) of manuscripts for publication in scientific and technical journals and publications, including articles and guidelines published in the MMWR, informational web content, and other publications for the public; (10) addresses critical research gaps through the development of extramural research funding opportunities and collaborates with the Extramural Research Program Office to ensure timely publication of funding opportunities and rigorous peer review of funding applications; and (11) supports scientific training opportunities and development of the scientific workforce, including the Epidemic Intelligence Service and Oak Ridge Institute for Science and Education training programs.

• Office of the Associate Director for Management and Operations (CUHG15). (1) Plans, directs, and evaluates the management and operations activities of the division; (2) oversees over-arching personnel, operational, administrative, fiscal, and technical support for the division; (3) provides leadership for and assessment of all administrative management activities of the division; (4) provides overall direction for planning and management oversight of allocated resources, human resource management, and general administrative support for the division; and (5) reviews the effectiveness and efficiency of all administration and operations of the division.

• Office of Management and Operations (CUHG15b). (1) Provides leadership, planning, and guidance to division management and staff on financial and administrative operations for overdose activities; (2) manages the budget through planning, execution, and closeout to facilitate daily operations; (3) provides expert consultation on personnel, operational, administrative, fiscal, and technical support management; (4) develops tools and implements processes to provide efficiency in facilitating work to reduce drug use and prevent overdose; (5) carries out over-arching, routine administrative requirements necessary for daily functions; (6) coordinates and oversees the implementation of available assistance mechanisms to prevent drug use and overdose; and (7) ensures proposed and ongoing operations are consistent with policy, practices, and procedures.

• Epidemiology and Surveillance Branch (CUHGB). (1) Plans, establishes, and evaluates surveillance systems to monitor national, state, and local trends in nonfatal and fatal overdoses and innovative surveillance projects, such as biosurveillance, illicit drug supply monitoring, linkage to care tracking, and overdose data linkages; (2) develops and implements uniform definitions of various overdose-related outcomes for public health surveillance; (3) routinely disseminates surveillance data through publications, data briefs and reports, presentations, and CDC websites and data dashboards on national, state, and local trends on overdose-related outcomes and disparities, which includes the mapping of geographic variations; (4) monitors and tracks overdoses with surveillance systems to inform prevention programs at the state and local level; (5) develops, designs, implements, and evaluates innovative surveillance strategies or systems in collaboration with colleagues to address gaps in existing CDC surveillance systems that inform evaluation and programmatic activities; (6) plans and directs strategies to collect, analyze, and interpret scientific findings from surveillance and epidemiologic activities to evaluating trends, set priorities, and develop intervention strategies for overdose prevention; (7) develops comprehensive data management processes to manage overdose morbidity, mortality, and innovative surveillance data received through cooperative agreements and contracts; (8) plans and collaborates on data modernization and data science efforts with colleagues in NCIPC and other CIOs; (9) serve as subject matter experts providing technical assistance on surveillance activities with state and local entities; (10) plans and conducts data projects from data sources, such as toxicology data, to fill gaps in surveillance and investigates emerging and novel drug overdose threats; and (11) supports training to increase the number and capacity of personnel engaged in overdose epidemiology and surveillance—including supporting medical examiners/coroners in investigating drug overdose deaths.

• Health Systems and Research Branch (CUHGC). (1) Supports applied research, advanced analytics, evaluation, and demonstration projects to determine the effectiveness of health system prevention interventions; enhance the impact of health systems; and expand the understanding of how to best integrate health systems with public health prevention efforts to prevent drug use and overdose; (2) develops, implements, and evaluates evidence-based clinical prescribing guidelines and accompanying translation materials to improve patient outcomes and prevent drug overdose; (3) conducts advanced overdose and treatment analytics and modeling to inform prevention strategies and provide jurisdictions and partners with actionable data and tools; (4) provides expert consultation to federal, state, local, and international health and public health agencies on applied research, evaluation, and health system implementation strategies; (5) provides scientific technical assistance to states, tribes, localities, and territories through programmatic efforts to increase their capacity to develop, implement, and evaluate system-level overdose prevention strategies; (6) develops, implements, and evaluates tools and resources to use in electronic health records and health IT systems to address overdoses and support data integration across data systems; (7) expands reach and scale of evidence-based health system interventions through strategic partnerships and collaboration with health systems and state, tribal, local, and territorial public health departments; (8) publishes regularly in peer-reviewed journals and CDC-sponsored publications on topics that include, but are not limited to, programmatic, advanced analytics, modeling, evaluation, health systems, or community-based strategies to contribute to the research literature; and (9) supports dissemination of research, advanced analytics, evaluation, translation, and program implementation to federal, state, tribal, local, and territorial health agencies, public and private sector organizations, and other national and international groups with responsibilities and interests related to overdose prevention.

• Prevention Programs and Evaluation Branch (CUHGD). (1) Provides programmatic leadership and support for drug use and overdose prevention activities in state, tribal, local, and territorial jurisdictions; (2) provides technical assistance and project officer support to grantees on evaluation and implementation of evidence- and practice-based interventions with the greatest reach and impact in state, tribal, local and territorial jurisdictions, including sustaining and scaling up programs, strategies, and activities over time in collaboration with public safety/law enforcement and other partners; (3) stimulates adoption and effective use of evidence-based strategies to prevent drug use and overdose, including addressing disproportionately affected populations; (4) collaborates with localities to develop, adapt, and adopt novel evidence-based strategies; (5) leverages epidemiology and surveillance data about drug overdose morbidity, mortality, and risk and protective factors to inform, tailor, and update prevention strategies across the life course; (6) monitors and evaluates the outcomes of division investments in state, tribal, local and territorial jurisdictions through program evaluation and applied prevention science while widely disseminating findings to improve programmatic activities; (7) publishes the findings of programmatic evaluations in peer-reviewed literature and other reports and participates in scientific and professional conferences; (8) serves as a resource, collaborates, and provides comprehensive technical assistance and training to state, tribal, local and territorial jurisdictions and other partners to reduce drug use and overdose; (9) synthesizes relevant research, evaluation findings, evidence, and trends to develop practical guidance and resources that enhance overdose prevention programs, strategies, and activities; (10) uses research findings to develop or improve strategies, policies, and interventions to prevent and reduce overdose, and its risk factors and consequences; and (11) collaborates with state, tribal, local, and territorial jurisdictions, public safety/law enforcement, and other partners to use data to drive decision-making and action.

• Drug-Free Communities Branch (CUHGE). (1) Provides programmatic leadership and support to communities/localities and community coalitions under the Drug-Free Communities (DFC) Support and the Comprehensive Addiction and Recovery Act Local Drug Crisis (CARA Local Drug Crisis) Grant Programs; (2) provides comprehensive technical assistance and project officer support to the grant award recipients and serves as a resource and collaborator to implement community-based youth substance use prevention interventions capable of effecting and sustaining community-level change and addressing local youth opioid, methamphetamine, and/or prescription medication abuse; (3) works with the grant award recipients to promote the seven Strategies for Community-Level Change (Provide Information, Enhance Skills, Provide Support, Enhance Access or Reduce Barriers, Change Consequences, Change Physical Design, Modify/Change Policies); (4) collaborates with staff across the division, NCIPC, and CDC to maximize opportunities and the subject matter expertise available for the implementation of the DFC Support and CARA Local Drug Crisis Grant Programs; (5) monitors and evaluates the outcomes of division investments in communities/localities and community coalitions in concert with the White House Office of National Drug Control Policy using rigorous evaluation methods and widely disseminating findings to improve future programmatic activities; (6) synthesizes relevant research, evaluation findings, evidence, and trends to develop practical guidance and resources that enhance community-based youth substance use prevention programs, strategies, and activities and present this work at relevant scientific and professional conferences; (7) uses research findings to develop new strategies and interventions or to improve the impact of existing strategies and interventions to prevent and reduce youth substance use and associated risk factors and consequences; and (8) provides assistance, as needed, to communities/localities and community coalitions to prevent youth substance use.

• Communications Branch (CUHGG). (1) Oversees communication and marketing science, research, practice, and public affairs and ensures division materials meet HHS and CDC standards; (2) leads division's strategic planning for communication, marketing science, and public affairs programs and projects and analyzes context, situation, and environment to inform division-wide communication and marketing programs and projects; (3) ensures use of scientifically-sound research for marketing and communication programs and projects and accurate, accessible, timely, and effective translation of science for the use of multiple audiences; (4) leads identification and implementation of information dissemination channels and provides communication and marketing project management expertise; (5) collaborates with external organizations, including media organizations, to ensure that scientific findings and their implications for public health reach the intended audiences; (6) collaborates closely with divisions to produce materials tailored to meet the requirements of news and other media channels, including press releases, letters to the editor, public service announcements, television programming, video news releases, and other electronic and printed materials; (7) coordinates the development and maintenance of accessible public information through the internet, social media, and other applicable channels; (8) provides training and technical assistance in health communication, risk communication, social marketing, and public affairs; (9) manages or coordinates communication services such as internet/intranet, application development, social media, video production, graphics, photography, CDC name and logo use, and other brand management; (10) plans, develops, conducts, and evaluates cross-cutting communication projects and campaigns to inform the media, health professionals, the public, and others about drug use and overdose prevention; (11) develops and evaluates messages, materials, and health communication products to promote and disseminate scientific findings, evidence-based prevention strategies, priority recommendations, and guidelines through various platforms; (12) provides editorial services, including writing, editing, and technical editing; (13) facilitates internal communication to NCIPC staff and allied audiences; (14) serves as a liaison to internal and external groups to advance the division's mission and collaborates with NCIPC's Office of Communication and CDC's Office of the Associate Director for Communication on media relations, electronic communication, health media production, and brand management activities; (15) collaborates with the Center for Preparedness and Response and other CDC and the Agency for Toxic Substances and Disease Registry entities to fulfill communication responsibilities in emergency response situations; and (16) collaborates with other CDC CIOs to develop marketing communications targeted to populations that benefit from a cross-functional approach.

• State Program Implementation Branch (CUHGH). (1) Provides programmatic leadership, guidance, and technical assistance to state health departments on a range of surveillance and prevention strategies to reduce and prevent drug overdoses; (2) provides programmatic and scientific support to strengthen state award recipients capacity to implement surveillance and prevention interventions capable of effecting and sustaining state-level change to combat drug overdoses; (3) coordinates with staff across the division, NCIPC, and CDC to leverage subject matter expertise and opportunities for collaboration to enhance development, implementation, and evaluation of overdose surveillance and prevention strategies needed to combat the changing drug overdose epidemic; (4) monitors and evaluates the outcomes of the division's programmatic investments; (5) uses research findings to inform or improve strategies, policies, and interventions on surveillance and prevention strategies to combat drug overdoses through states and partners; and (6) synthesizes relevant research, evaluation findings, and trends to develop practical guidance and resources that enhance and expand state overdose prevention strategies and activities.

III. Delegations of Authority: All delegations and redelegations of authority made to officials and employees of affected organizational components will continue pending further redelegation, provided they are consistent with this reorganization.

(Authority: 44 U.S.C. 3101)

Robin D. Bailey Jr.,
Chief Operating Officer, Centers for Disease Control and Prevention.

[FR Doc. 2022-15153 Filed 7-14-22; 8:45 am]

BILLING CODE 4163-18-P